DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 26, 2017.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on June 29, 2017.
Donald Burger,
Chief, Office of the Special Permits and Approvals.

Application No. | Docket No. | Applicant | Regulation(s) affected | Nature of the special permits thereof
Special Permits Data
10784-M |  | UNITED STATES SECRET SERVICE | 173.25, 175.75(b) | To modify the special permit to authorize an additional DOT-specification cylinder to be transported in First Aid/Trauma Kits aboard passenger carrying aircraft. (mode 5)
11691-M |  | THE COCA-COLA COMPANY | 172.301(c), 176.83(d), 176.800(a), 176.800(b) | To modify the special permit to authorize additional Class 3, 8 and 9 hazardous materials. (mode 3)
12130-M |  | FIBA TECHNOLOGIES, INC | 173.315, 173.318, 176.76(g) | To modify the special permit to change it from a manufacturing permit to a use permit. (modes 1, 3)
13583-M |  | STRUCTURAL COMPOSITES INDUSTRIES LLC | 173.302a(a)(1), 173.304a(a)(1), 180.205 | To modify the special permit to authorize spare cylinders to be included in the lot used for qualification testing. (modes 1, 2, 3)
14301-M |  | GASCON (PTY) LTD | 178.274(b), 178.276(a)(2), 178.276(b)(1) | To modify the special permit to authorize portable tanks to be designed, constructed, certified and stamped in accordance with Section VIII Division 2 of the ASME Code. (modes 1, 2, 3)
15806-M |  | INTEGRATED ENVIRONMENTAL SERVICES, INC | 173.201, 173.202, 173.203, 173.302, 173.304, 180.209 | To modify the special permit to authorize use of single hatch openings on cylinders, increase the MAWP to 745 psig and decrease the working temperature to 131 degrees. (mode 1)
16095-M |  | CLAY AND BAILEY MANUFACTURING COMPANY | 172.203(a), 178.345-1, 178.347-3, 180.413 | To modify the special permit to remove MC 307 and DOT 407 cargo tanks motor vehicles and to lower the hydrostatic testing pressure from 53 psig to 36 due to these tanks being removed. (modes 1, 3)
16212-M |  | ENTEGRIS, INC | 173.302c(a), 176.83(b) | To modify the special permit to remove items from paragraph 6 that are no longer authorized in the packaging authorized by the permit, and to add new additional packaging to the permit. (modes 1, 3)
16524-M |  | QUANTUM FUEL SYSTEMS LLC | 173.302(a) | To modify the special permit to authorize Modal Acoustic Emission testing for periodic requalification of permitted cylinders. (modes 1, 2, 3)

[FR Doc. 2017-14467 Filed 7-10-17; 8:45 am]

BILLING CODE 4909-60-P